DEPARTMENT OF HOMELAND SECURITY

Coast Guard

[USCG-2008-1144]

Towing Safety Advisory Committee; Notice of Open Teleconference Meeting

AGENCY: Coast Guard, DHS.

ACTION: Notice of meeting.

SUMMARY: This notice announces a teleconference of the Towing Safety Advisory Committee (TSAC). The purpose of this teleconference is for TSAC to discuss and vote on three documents/issues: (1) Task Statement 08-02 regarding clarification of the Apprentice Mate (Steersman) license; (2) the revised report of the Economic Analysis sub-group of the Towing Vessel Inspection Working Group; and (3) a revised Resolution from the Commercial/Recreational Boating Interface Working Group.

DATES: The teleconference call will take place on Tuesday December 16, 2008, from 12:30 p.m. until 2:30 p.m. Eastern Time. The meeting may close early if all business is finished. Requests to make oral presentations should reach the Coast Guard on or before December 9, 2008.

ADDRESSES: Committee members and the public may participate by dialing 1-877-950-5410; when prompted, enter participant passcode 9876776 followed by the [#] key. Public participation is welcomed; however, the number of teleconference lines is limited and available on a first-come, first-served basis. Members of the public may also participate by coming to Room 1303, U.S. Coast Guard Headquarters, 2100 Second Street, SW., Washington, DC 20593-0001. This Notice and documents identified in the Supplementary Information section as being available in the docket may be viewed in our online docket, USCG-2008-1144 at http://www.regulations.gov.

FOR FURTHER INFORMATION CONTACT: For questions on this notice, contact Mr. Gerald Miante, Assistant Designated Federal Officer (ADFO), TSAC, telephone 202-372-1401, fax 202-372-1926, or e-mail gerald.p.miante@uscg.mil.

SUPPLEMENTARY INFORMATION: TSAC advises, consults with, and makes recommendations to the Secretary DHS on matters relating to shallow-draft inland and coastal waterway navigation and towing safety. Notice of this meeting is given under the Federal Advisory Committee Act, 5 U.S.C. App. 2 (Pub. L. 92-463). The subject documents are available on the Internet at www.regulations.gov under the docket number USCG-2008-1144. Once on the Web site, enter the docket number, and click “Go.”

Agenda of Meeting

• Welcome and Opening Remarks—TSAC Chairman.

• Discussion and voting on the revision and acceptance of draft Task Statement 08-02 “Apprentice Mate” (Steersman).

• Discussion and voting on the approval of a Supplementary Report from the Economic Analysis Subgroup.

• Discussion and voting on the approval of a revised resolution from the Commercial/Recreational Boating Interface Working Group.

• Public comment period (as time permits).

• Meeting adjourned.

Procedural

This meeting is open to the public. Please note that the meeting may adjourn early if all business is finished. At the Chair's discretion, members of the public may make oral presentations during the meeting. If you would like to make an oral presentation at the meeting, please notify Mr. Miante no later than December 9, 2008. Written material for distribution at a meeting should reach the Coast Guard no later than December 9, 2008. If you would like a copy of your material distributed to each member of the committee in advance of a meeting, please submit material electronically via e-mail to the ADFO no later than December 9, 2008.

Information on Services for Individuals With Disabilities

For information on facilities or services for individuals with disabilities or to request special assistance at the meetings, contact Mr. Miante as soon as possible.

Dated: November 20, 2008.
Howard L. Hime,
Acting Director of Commercial Regulations and Standards.

[FR Doc. E8-27983 Filed 11-24-08; 8:45 am]

BILLING CODE 4910-15-P